DEPARTMENT OF JUSTICE

Notice of Lodging Proposed Consent Decree

In accordance with Departmental Policy, 28 CFR 50.7, notice is hereby given that a proposed Consent Decree in Dan Eoff v. United States Environmental Protection Agency, Civil Action No. 4:13-cv-00368-DPM, was lodged with the United States District Court for the Eastern District of Arkansas, Western Division, on August 4, 2016.

This proposed Consent Decree concerns a complaint filed by Plaintiff and Counterclaim Defendant Dan Eoff against the United States Environmental Protection Agency, and an answer and counterclaim filed by the United States, on behalf of the United States Environmental Protection Agency, against Dan Eoff pursuant to Section 301(a) of the Clean Water Act, to obtain injunctive relief from and impose civil penalties against the Plaintiff and Counterclaim Defendant for violating the Clean Water Act by discharging pollutants without a permit into waters of the United States. The proposed Consent Decree resolves these allegations by requiring Mr. Eoff to restore the impacted areas, perform mitigation and pay a civil penalty.

The Department of Justice will accept written comments relating to this proposed Consent Decree for thirty (30) days from the date of publication of this Notice. Please address comments to Lisa Bell, Trial Attorney and John E. Sullivan, Trial Attorney for the United States Department of Justice, Environment and Natural Resources Division, Environmental Defense Section, Post Office Box 7611, Washington, DC 20044 and refer to Dan Eoff v. United States Environmental Protection Agency, DJ # 90-5-1-4-19920.

The proposed Consent Decree may be examined at the Clerk's Office, United States District Court for the Eastern District of Arkansas, Western Division, 600 West Capitol Avenue, Suite A149, Little Rock, AR 72201. In addition, the proposed Consent Decree may be examined electronically at http://www.justice.gov/enrd/consent-decrees.

Cherie L. Rogers,
Assistant Section Chief, Environmental Defense Section, Environment and Natural Resources Division.

[FR Doc. 2016-18933 Filed 8-9-16; 8:45 am]

BILLING CODE 4410-15-P